DEPARTMENT OF THE INTERIOR

National Park Service

Native American Graves Protection and Repatriation Review Committee: Meeting

AGENCY: National Park Service, Interior.

ACTION: Notice.

Notice is here given in accordance with the Federal Advisory Committee Act, 5 U.S.C. Appendix (1988), of a meeting of the Native American Graves Protection and Repatriation Review Committee.

The Review Committee will meet on September 17-18, 2004, in the Four Points Sheraton Hotel, 1201 K Street, NW., Washington, DC 20005, telephone (202) 289-7600. Meeting sessions will begin at approximately 8:30 a.m. each day, and will end at approximately 5 p.m. The agenda for the meeting will include an overview of NAGPRA and related statutes, an update on various disputes and issues pending before the Review Committee; requests for recommendations regarding the disposition of culturally unidentifiable human remains; discussion of regulations; the Review Committee's 2002-2003 report to the Congress; discussion of nominees for the committee's seventh member and selection of a chair; and presentations and statements by Indian tribes, Native Hawaiian organizations, museums, Federal agencies, and the public.

To schedule a presentation to the Review Committee during the meeting, submit a written request with an abstract of the presentation and contact information. Persons also may submit written statements for consideration by the Review Committee during the meeting. Send requests and statements to the Designated Federal Officer, NAGPRA Review Committee by U.S. Mail to the National Park Service, 1849 C Street NW., (2253), Washington, DC 20240; or by commercial delivery to the National Park Service, 1201 Eye Street NW., 8th floor, Washington, DC 20005. Because increased security in the Washington, DC, area may delay delivery of U.S. Mail to Government offices, copies of mailed requests and statements should also be faxed to (202) 371-5197.

Transcripts of Review Committee meetings are available approximately 8 weeks after each meeting at the National NAGPRA Program office, 1201 Eye Street NW., Washington, DC. To request electronic copies of meeting transcripts, send an e-mail message to nagpra_info@nps.gov. Information about NAGPRA, the Review Committee, and Review Committee meetings is available at the National NAGPRA Website, http://www.cr.nps.gov/nagpra; for the Review Committee's meeting procedures, select “Review Committee,” then select “Procedures.”

The Review Committee was established by the Native American Graves Protection and Repatriation Act of 1990 (NAGPRA), 25 U.S.C. 3001 et seq. Review Committee members are appointed by the Secretary of the Interior. The Review Committee is responsible for monitoring the NAGPRA inventory and identification process; reviewing and making findings related to the identity of cultural affiliation of cultural items, or the return of such items; facilitating the resolution of disputes; compiling an inventory of culturally unidentifiable human remains that are in the possession or control of each Federal agency and museum and recommending specific actions for developing a process for disposition of such remains; consulting with Indian tribes and Native Hawaiian organizations and museums on matters within the scope of the work of the committee affecting such tribes or organizations; consulting with the Secretary of the Interior in the development of regulations to carry out NAGPRA; and making recommendations regarding future care of repatriated cultural items. The Review Committee's work is completed during meetings that are open to the public.

Dated: August 12, 2004.
C. Timothy McKeown,
Designated Federal Officer, Native American Graves Protection and Repatriation Review Committee.

[FR Doc. 04-19394 Filed 8-24-04; 8:45 am]

BILLING CODE 4312-50-M